DEPARTMENT OF TRANSPORTATION

Federal Aviation Administration

14 CFR Part 39

[Docket No. FAA-2011-0919; Directorate Identifier 2010-NM-088-AD]

RIN 2120-AA64

Airworthiness Directives; Lockheed Martin Corporation/Lockheed Martin Aeronautics Company Model L-1011 Series Airplanes

AGENCY: Federal Aviation Administration (FAA), DOT.

ACTION: Notice of proposed rulemaking (NPRM).

SUMMARY: We propose to adopt a new airworthiness directive (AD) for certain Model L-1011 series airplanes. This proposed AD would require repetitive inspections for cracking of the wing rear spar and upper surface zones, and repair if necessary. This proposed AD results from a damage tolerance analysis conducted by the manufacturer indicating that fatigue cracking could occur in those areas. We are proposing this AD to detect and correct such fatigue cracking, which could result in cracking that grows large enough to reduce the wing strength below certificated requirements and possibly cause fracture of the rear spar, resulting in extensive damage to the wing and possible fuel leaks.

DATES: We must receive comments on this proposed AD by November 7, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Lockheed Martin Corporation/Lockheed Martin Aeronautics Company, Airworthiness Office, Dept. 6A0M, Zone 0252, Column P-58, 86 S. Cobb Drive, Marietta, Georgia 30063; telephone 770-494-5444; fax 770-494-5445; e-mail ams.portal@lmco.com; Internet http://www.lockheedmartin.com/ams/tools/TechPubs.html. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone 800-647-5527) is in the ADDRESSES section. Comments will be available in the AD docket shortly after receipt.

FOR FURTHER INFORMATION CONTACT: Carl Gray, Aerospace Engineer, Airframe Branch, ACE-117A, FAA, Atlanta Aircraft Certification Office (ACO), 1701 Columbia Avenue, College Park, Georgia 30337; phone: 404-474-5554; fax: 404-474-5606; e-mail: Carl.W.Gray@faa.gov.

SUPPLEMENTARY INFORMATION:

Comments Invited

We invite you to send any written relevant data, views, or arguments about this proposed AD. Send your comments to an address listed under the ADDRESSES section. Include “Docket No. FAA-2011-0919; Directorate Identifier 2010-NM-088-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We previously issued AD 94-05-01, Amendment 39-8839 (59 FR 10275, March 4, 1994), and AD 2000-21-01, Amendment 39-11933 (65 FR 62994, October 20, 2000), which require modifications to extend the life of the wing rear spar inboard area. The modifications required by those two ADs removed cracks in the wing upper skin and installed repair bushings as necessary. The lower spar cap was modified by adding nested angles and cold working the attachment holes.

Based upon a damage tolerance analysis, additional inspections are required to ensure the structural integrity of the structure modified in accordance with those two ADs as well as the adjoining baseline structure. If cracking is undetected and unrepaired, it could result in cracking that grows large enough to reduce the wing strength below certificated requirements and possibly cause fracture of the rear spar, resulting in extensive damage to the wing and possible fuel leaks.

Relevant Service Information

We have reviewed Lockheed Service Bulletin 093-57-226, dated August 31, 2009. This service bulletin describes procedures for repetitive eddy current non-destructive inspections (NDI) and detailed inspections for cracking of the wing rear spar and upper surface zones. The service bulletin identifies inspections for the airplane models in the zones identified in the following table, titled “Inspections.”

Table—Inspections
Airplane models | Inspection type | Zone(s)
L-1011-385-1, L-1011-385-1-14, and L-1011-385-1-15 | Non-destructive | 1A through 1E.
| Detailed Visual | 1F.
L-1011-385-3 | Non-destructive | 3A through 3E.
| Detailed Visual | 3F.

For airplanes on which cracking is found during any inspection, this service information specifies a bolt hole eddy current inspection to verify the cracking. The corrective actions for cracking include repairing cracking if the cracking is within specified limits, or contacting the manufacturer for repair instructions if the cracking is not within specified limits.

Related Rulemaking

AD 94-05-01, Amendment 39-8839 (59 FR 10275, March 4, 1994), and AD 2000-21-01, Amendment 39-11933 (65 FR 62994, October 20, 2000), specify structural modification installations on Model L-1011 series airplanes. This proposed AD would not change the requirements of AD 94-05-01 and AD 2000-21-01. However, this proposed AD would require new inspections for structures affected by the modifications required by those two ADs.

FAA's Determination and Requirements of this Proposed AD

We are proposing this AD because we evaluated all relevant information and determined the unsafe condition described previously is likely to exist or develop in other products of these same type designs. This proposed AD would require accomplishing the actions specified in Lockheed Service Bulletin 093-57-226, dated August 31, 2009, described previously.

Differences Between the Proposed AD and the Service Information

This proposed AD specifies initial compliance times and repetitive inspection intervals that differ from those contained in Lockheed Service Bulletin 093-57-226, dated August 31, 2009. The changes have been coordinated with Lockheed Martin and they concur with the FAA's position. The compliance times were changes to simplify the inspection requirements. We also propose that all crack findings be repaired before further flight. We have determined that the compliance times, as proposed, represent the maximum interval of time allowable for the affected airplanes to continue to safely operate before the inspections and repairs, if necessary, are done.

Although that service bulletin specifies that operators may contact the manufacturer for disposition of certain repairs, this proposed AD would require operators to repair those conditions in accordance with a method approved by the FAA.

Interim Action

We consider this proposed AD interim action. If final action is later identified, we might consider further rulemaking then.

Costs of Compliance

We estimate that this proposed AD affects 4 airplanes of U.S. registry.

We estimate the following costs to comply with this proposed AD:

Estimated Costs
Action | Labor cost | Parts cost | Cost per product | Cost on U.S. operators
Models: L-1011-385-1, L-1011-385-1-14, L-1011-385-1-15, Zones 1A through 1E (Non-destructive Inspection) | 21 work-hours × $85 per hour = $1,785 per inspection cycle | $0 | $1,785 per inspection cycle | $3,570 per inspection cycle (2 airplanes).
Models: L-1011-385-1, L-1011-385-1-14, L-1011-385-1-15, Zone 1F (Detailed Inspection) | 5 work-hours × $85 per hour = $425 per inspection cycle | 0 | $425 per inspection cycle | $850 per inspection cycle (2 airplanes).
Model: L-1011-385-3, Zones 1A through 1E (Non-destructive Inspection) | 24 work-hours × $85 per hour = $2,040 per inspection cycle | 0 | $2,040 per inspection cycle | $4,080 per inspection cycle (2 airplanes).
Model: L-1011-385-3, Zone 1F (Detailed Inspection) | 5 work-hours × $85 per hour = $425 per inspection cycle | 0 | $425 per inspection cycle | $850 per inspection cycle (2 airplanes).

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Lockheed Martin Corporation/Lockheed Martin Aeronautics Company: Docket No. FAA-2011-0919; Directorate Identifier 2010-NM-088-AD.

Comments Due Date

(a) We must receive comments by November 7, 2011.

Affected ADs

(b) None.

Applicability

(c) This AD applies to Lockheed Martin Corporation/Lockheed Martin Aeronautics Company Model L-1011-385-1, L-1011-385-1-14, L-1011-385-1-15, and L-1011-385-3 airplanes, certificated in any category, serial numbers 1002 through 1250 inclusive.

Subject

(d) Air Transport Association (ATA) of America Code 57, Wings.

Unsafe Condition

(e) This AD results from a damage tolerance analysis conducted by the manufacturer that indicates fatigue cracking could occur in the wing rear spar and upper surface zones. The Federal Aviation Administration is issuing this AD to detect and correct such fatigue cracking, which could result in cracking that grows large enough to reduce the wing strength below certificated requirements and possibly cause fracture of the rear spar, resulting in extensive damage to the wing and possible fuel leaks.

Compliance

(f) You are responsible for having the actions required by this AD performed within the compliance times specified, unless the actions have already been done.

Inspections of Wing Rear Spar and Upper Surface Zones, and Corrective Actions

(g) At the applicable time specified in paragraph (k) of this AD, do eddy current non-destructive inspections (NDI) and detailed inspections for cracking at the applicable zones specified in paragraph (g)(1) or (g)(2) of this AD, in accordance with the Accomplishment Instructions of Lockheed Service Bulletin 093-57-226, dated August 31, 2009. Repeat the inspections thereafter at the applicable interval specified in Table 1 of this AD.

(1) For Model L-1011-385-1, L-1011-385-1-14, and L-1011-385-1-15 airplanes: Zones 1A through 1E, and Zone 1F.

(2) For Model L-1011-385-3 airplanes: Zones 3A through 3E, and Zone 3F.

Additional Inspection if Cracking is Found

(h) Except as specified in paragraph (j) of this AD, if any cracking is detected during any inspection required by paragraph (g) of this AD: Before further flight, remove the fastener(s) at the suspect area, as defined in Lockheed Service Bulletin 093-57-226, dated August 31, 2009; and do a secondary eddy current inspection to detect cracking of fastener holes with suspected crack indications; in accordance with the Accomplishment Instructions of Lockheed Service Bulletin 093-57-226, dated August 31, 2009.

Repair

(i) Except as specified in paragraph (j) of this AD, if a crack finding is confirmed by the inspection required by paragraph (h) of this AD and the cracking is within the allowable repair limits specified in Lockheed Martin Repair Drawing LCC7622-369, Revision March 30, 1995: Before further flight, repair the cracking, in accordance with Lockheed Martin Repair Drawing LCC7622-369, Revision March 30, 1995. If a crack finding confirmed by the inspection required by paragraph (h) of this AD is not within the allowable repair limits specified in Lockheed Martin Repair Drawing LCC7622-369, Revision March 30, 1995: Before further flight, repair the cracking, in accordance with a method approved by the Manager, Atlanta Aircraft Certification Office (ACO), FAA. For a repair method to be approved by the Manager, Atlanta ACO, as required by this paragraph, the Manager's approval letter must specifically refer to this AD.

Exception to Service Bulletin

(j) If any cracking is found during any inspection required by this AD, and Lockheed Service Bulletin 093-57-226, dated August 31, 2009; or Lockheed Martin Repair Drawing LCC7622-369, Revision March 30, 1995; specifies contacting Lockheed for appropriate action: Before further flight, repair the cracking in accordance with a method approved by the Manager, Atlanta ACO, FAA. For a repair method to be approved by the Manager, Atlanta ACO, as required by this paragraph, the Manager's approval letter must specifically refer to this AD.

Compliance Times for Inspections

(k) Do the inspections required by paragraph (g) of this AD at the applicable time specified in table 1 of this AD.

Table 1—Compliance Times for Inspections
Airplane models and zones | Compliance time |  | Repetitive interval
| (whichever occurs later) |  | (not to exceed)
L-1011-385-1 having accumulated fewer than 7,000 flight cycles after the accomplishment of Lockheed Martin Service Bulletin 093-57-184, 093-57-196, or 093-57-215; as of the effective date of this AD; Zones 1A through 1E (Non-destructive Inspection (NDI)) | Within 7,000 flight cycles or 10 years after the accomplishment of Lockheed Martin Service Bulletin 093-57-184, 093-57-196, or 093-57-215, whichever occurs first | Within 1,000 flight cycles after the effective date of this AD | 1,100 flight cycles.
L-1011-385-1 having accumulated fewer than 7,000 flight cycles after the accomplishment of Lockheed Martin Service Bulletin 093-57-184, 093-57-196, or 093-57-215; as of the effective date of this AD; Zone 1F (Detailed Inspection) | Within 7,000 flight cycles or 10 years after the accomplishment of Lockheed Martin Service Bulletin 093-57-184, 093-57-196, or 093-57-215, whichever occurs first | Within 90 flight cycles or 30 days after the effective date of this AD, whichever occurs later | 90 flight cycles.
L-1011-385-1 having accumulated 7,000 flight cycles or more flight cycles after the accomplishment of Lockheed Martin Service Bulletin 093-57-184, 093-57-196, or 093-57-215; as of the effective date of this AD; Zones 1A through 1E (NDI) | Within 1,000 flight cycles or 12 months after the effective date of this AD, whichever occurs first | N/A | 1,100 flight cycles.
L-1011-385-1 having accumulated 7,000 flight cycles or more after the accomplishment of Lockheed Martin Service Bulletin 093-57-184, 093-57-196, or 093-57-215; as of the effective date of this AD; Zone 1F (Detailed Inspection) | Within 90 flight cycles after the effective date of this AD | Within 30 days after the effective date of this AD | 90 flight cycles.
L-1011-385-1-14 having accumulated fewer than 6,900 flight cycles after the accomplishment of Lockheed Martin Service Bulletin 093-57-184, 093-57-196, or 093-57-215; as of the effective date of this AD; Zones 1A through 1E (NDI) | Within 6,900 flight cycles or 10 years after the accomplishment of Lockheed Martin Service Bulletin 093-57-184, 093-57-196, or 093-57-215, whichever occurs first | Within 1,000 flight cycles after the effective date of this AD | 900 flight cycles.
L-1011-385-1-14 having accumulated fewer than 6,900 flight cycles after the accomplishment of Lockheed Martin Service Bulletin 093-57-184, 093-57-196, or 093-57-215; as of the effective date of this AD; Zone 1F (Detailed Inspection) | Within 6,900 flight cycles or 10 years after the accomplishment of Lockheed Martin Service Bulletin 093-57-184, 093-57-196, or 093-57-215, whichever occurs first | Within 90 flight cycles or 30 days after the effective date of this AD, whichever occurs later | 90 flight cycles.
L-1011-385-1-14 having accumulated 6,900 or more flight cycles after the accomplishment of Lockheed Martin Service Bulletin 093-57-184, 093-57-196, or 093-57-215; as of the effective date of this AD; Zones 1A through 1E (NDI) | Within 1,000 flight cycles or 12 months after the effective date of this AD, whichever occurs first | N/A | 900 flight cycles.
L-1011-385-1-14 having accumulated 6,900 or more flight cycles after the accomplishment of Lockheed Martin Service Bulletin 093-57-184, 093-57-196, or 093-57-215; as of the effective date of this AD; Zone 1F (Detailed Inspection) | Within 90 flight cycles after the effective date of this AD | Within 30 days after the effective date of this AD | 90 flight cycles.
L-1011-385-1-15 having accumulated fewer than 5,600 flight cycles after the accomplishment of Lockheed Martin Service Bulletin 093-57-184, 093-57-196, or 093-57-215; as of the effective date of this AD; Zones 1A through 1E (NDI) | Within 5,600 flight cycles or 10 years after the accomplishment of Lockheed Martin Service Bulletin 093-57-184, 093-57-196, or 093-57-215, whichever occurs first | Within 1,000 flight cycles after the effective date of this AD | 500 flight cycles.
L-1011-385-1-15 having accumulated fewer than 5,600 flight cycles after the accomplishment of Lockheed Martin Service Bulletin 093-57-184, 093-57-196, or 093-57-215; as of the effective date of this AD; Zone 1F (Detailed Inspection) | Within 5,600 flight cycles or 10 years after the accomplishment of Lockheed Martin Service Bulletin 093-57-184, 093-57-196, or 093-57-215, whichever occurs first | Within 60 flight cycles or 30 days after the effective date of this AD, whichever occurs later | 60 flight cycles.
L-1011-385-1-15 having accumulated 5,600 or more flight cycles after the accomplishment of Lockheed Martin Service Bulletin 093-57-184, 093-57-196, or 093-57-215; as of the effective date of this AD; Zones 1A through 1E (NDI) | Within 1,000 flight cycles or 12 months after the effective date of this AD, whichever occurs first | N/A | 500 flight cycles.
L-1011-385-1-15 having accumulated 5,600 or more flight cycles after the accomplishment of Lockheed Martin Service Bulletin 093-57-184, 093-57-196, or 093-57-215; as of the effective date of this AD; Zone 1F (Detailed Inspection) | Within 60 flight cycles after the effective date of this AD | Within 30 days after the effective date of this AD | 60 flight cycles.
L-1011-385-3 having accumulated fewer than 8,400 flight cycles after the accomplishment of Lockheed Martin Service Bulletin 093-57-184, 093-57-196, or 093-57-215; as of the effective date of this AD; Zones 1A through 1E (NDI) | Within 8,400 flight cycles or 10 years after the accomplishment of Lockheed Martin Service Bulletin 093-57-184, 093-57-196, or 093-57-215, whichever occurs first | Within 1,000 flight cycles after the effective date of this AD | 1,200 flight cycles.
L-1011-385-3 having accumulated fewer than 8,400 flight cycles after the accomplishment of Lockheed Martin Service Bulletin 093-57-184, 093-57-196, or 093-57-215; as of the effective date of this AD; Zone 1F (Detailed Inspection) | Within 90 flight cycles or 30 days after the effective date of this AD, whichever occurs later | Within 85 flight cycles or 30 days after the effective date of this AD, whichever occurs later | 85 flight cycles.
L-1011-385-3 having accumulated 8,400 or more flight cycles after the accomplishment of Lockheed Martin Service Bulletin 093-57-184, 093-57-196, or 093-57-215; as of the effective date of this AD; Zones 1A through 1E (NDI) | Within 1,000 flight cycles or 12 months after the effective date of this AD, whichever occurs first | N/A | 1,200 flight cycles.
L-1011-385-3 having accumulated 8,400 or more flight cycles after the accomplishment of Lockheed Martin Service Bulletin 093-57-184, 093-57-196, or 093-57-215; as of the effective date of this AD; Zone 1F (Detailed Inspection) | Within 85 flight cycles after the effective date of this AD | Within 30 days after the effective date of this AD | 85 flight cycles.

Alternative Methods of Compliance (AMOCs)

(l)(1) The Manager, Atlanta ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

Related Information

(m) For more information about this AD, contact Carl Gray, Aerospace Engineer, Airframe Branch, ACE-117A, FAA, Atlanta ACO, 1701 Columbia Avenue, College Park, Georgia 30337; phone: 404-474-5554; fax: 404-474-5606; e-mail: Carl.W.Gray@faa.gov.

Issued in Renton, Washington, on September 14, 2011.
Ali Bahrami,
Manager, Transport Airplane Directorate, Aircraft Certification Service.

[FR Doc. 2011-24270 Filed 9-20-11; 8:45 am]

BILLING CODE 4910-13-P